DEPARTMENT OF ENERGY

Federal Energy Regulatory Commission

[Docket No. RP96-200-120]

CenterPoint Energy Gas Transmission Company; Notice of Compliance Filing

April 8, 2004.

Take notice that on April 5, 2004, CenterPoint Energy Gas Transmission Company (CEGT) tendered for filing as part of its FERC Gas Tariff, Sixth Revised Volume No. 1, the following tariff sheets to be effective June 1, 2004:

Second Revised Sheet No. 1

First Revised Sheet No. 126

First Revised Sheet No. 146

First Revised Sheet No. 177

First Revised Sheet No. 209

First Revised Sheet No. 756

First Revised Sheet No. 757

First Revised Sheet No. 758

First Revised Sheet No. 759

First Revised Sheet No. 760

First Revised Sheet No. 761

First Revised Sheet No. 762

First Revised Sheet No. 763

First Revised Sheet No. 764

Sheet Nos. 765-769

First Revised Sheet No. 786

CEGT states that the purpose of this filing is to comply with the Commission's Order on Compliance Filings in Docket Nos. RP96-200-092, 097, 101-108, 110-111, 113, and 118, CenterPoint Energy Gas Transmission Company, 106 FERC ¶ 61,213 (2004).

Any person desiring to protest said filing should file a protest with the Federal Energy Regulatory Commission, 888 First Street, NE., Washington, DC 20426, in accordance with section 385.211 of the Commission's rules and regulations. All such protests must be filed in accordance with section 154.210 of the Commission's regulations. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Linda Mitry,
Acting Secretary.

[FR Doc. E4-852 Filed 4-14-04; 8:45 am]

BILLING CODE 6717-01-P